DEPARTMENT OF THE TREASURY

Proposed Collection; Comment Request

AGENCY: Departmental Offices; Department of the Treasury.

SUMMARY: The Department of the Treasury, as part of its continuing effort to reduce paperwork burdens, invites the general public and other Federal agencies to comment on the revision of a currently approved information collection that is to be proposed for approval by the Office of Management and Budget. The Office of International Affairs of the Department of the Treasury is soliciting comments concerning Treasury International Capital Form S, “Purchases and Sales of Long-Term Securities by Foreign Residents.”

DATES: Written comments should be received on or before May 18, 2021 to be assured of consideration.

ADDRESSES: Direct all written comments to Dwight Wolkow, International Portfolio Investment Data Systems, Department of the Treasury, Room 1050, 1500 Pennsylvania Avenue NW, Washington, DC 20220. In view of possible delays in mail delivery, please also notify Mr. Wolkow by email (comments2TIC@treasury.gov), or by telephone (cell: 202-923-0518).

FOR FURTHER INFORMATION CONTACT: Copies of the proposed forms and instructions are available on the Treasury's TIC Forms web page, TIC S-Form and Instructions | U.S. Department of the Treasury. Requests for additional information should be directed to Mr. Wolkow by email (comments2TIC@treasury.gov), or by telephone (cell: 202-923-0518).

SUPPLEMENTARY INFORMATION: Title: Treasury International Capital Form S, Purchases and Sales of Long-term Securities by Foreign-Residents.

OMB Control Number: 1505-0001.

Abstract: Form S is part of the Treasury International Capital (TIC) reporting system, which is required by law (22 U.S.C. 286f; 22 U.S.C. 3103; E.O. 10033; 31 CFR 128), and is designed to collect timely information on international portfolio capital movements. Form S is a monthly report used to cover transactions in long-term marketable securities undertaken directly with foreigners by banks, other depository institutions, brokers, dealers, underwriting groups, funds and other individuals and institutions. This information is used by the U.S. Government in the formulation of international financial and monetary policies and for the analysis of the U.S. balance of payments accounts.

Current Actions: No changes in the form or instructions are being proposed at this time. Some clarifications and format changes may be made to improve the instructions.

Type of Review: Renewal without change of a currently approved collection.

Affected Public: Business or other for-profit organizations.

Form: S (1505-0001).

Estimated Number of Respondents: 185

Estimated Average Time per Respondent: Six and three-fourth hours per respondent per filing. The estimated average time per filing varies from 11.8 hours for the approximately 30 major reporters to 5.9 hours for the other reporters.

Estimated Total Annual Burden Hours: 15,010 hours, based on 12 reporting periods per year.

Request for Comments: Comments submitted in response to this notice will be summarized and/or included in the request for Office of Management and Budget approval. All comments will become a matter of public record. The public is invited to submit written comments concerning: (a) Whether Form S is necessary for the proper performance of the functions of the Office, including whether the information will have practical uses; (b) the accuracy of the above estimate of the burdens; (c) ways to enhance the quality, usefulness and clarity of the information to be collected; (d) ways to minimize the reporting and/or record keeping burdens on respondents, including the use of information technologies to automate the collection of the data; and (e) estimates of capital or start-up costs of operation, maintenance and purchase of services to provide information.

Dwight Wolkow,
Administrator, International Portfolio Investment Data Reporting Systems.

[FR Doc. 2021-05755 Filed 3-18-21; 8:45 am]

BILLING CODE 4810-AK-P